DEPARTMENT OF THE INTERIOR

National Park Service

Final Environmental Impact Statement; Marin Headlands and Fort Baker Transportation Infrastructure and Management Plan Golden Gate National Recreation Area, Marin County, California; Notice of Availability

SUMMARY: Pursuant to § 102(2)(C) of the National Environmental Policy Act of 1969 (Pub. L. 91-190, 42 U.S.C. 4321-4347, January 1, 1970, as amended), and the Council on Environmental Quality Regulations (40 CFR parts 1500-1508), the National Park Service, Department of the Interior, has prepared a Final Environmental Impact Statement for the Marin Headlands and Fort Baker Transportation Infrastructure and Management Plan. The proposed project would provide greater access to and within the Marin Headlands and Fort Baker areas of Golden Gate National Recreation Area (GGNRA) for a variety of users in a way that minimizes impacts to the rich natural diversity and cultural resources within all the areas of potential effect. Roadway infrastructure would be rehabilitated or reconstructed with non-character altering roadway widening, and parking facilities would be improved. Additional transit options would be provided to and within the Marin Headlands and Fort Baker to improve access to visitor sites. Pedestrian and bicycle facilities would be improved through closure and rerouting of existing trails and construction of new trails.

A successful project would meet the following goals: (1) Promote public transit, pedestrian, and bicycle travel to and within GGNRA to improve visitor experience and enhance environmental quality; (2) Rehabilitate the Marin Headlands/Fort Baker transportation road and trail infrastructure in a manner that protects resources and improves safety and circulation; (3) Reduce traffic congestion at key park locations and connecting roads.

Range of Alternatives Considered: The Final Environmental Impact Statement (FEIS) describes and analyzes four alternatives. Alternative 1, the No Action Alternative, would provide no change from the existing management direction; it serves as an environmental baseline from which potential effects of the three “action” alternatives may be compared. Alternative 2 would provide basic multi-modal access. Roadway infrastructure would be rehabilitated within the existing roadway width; parking facilities would be improved; transit service to the Marin Headlands would be expanded on weekends; and minor pedestrian and bicycle facility enhancements would be implemented to improve access to these GGNRA areas. Alternative 4 would provide maximum multi-modal access. Roadway infrastructure would be reconstructed throughout the study area, and parking facilities would be improved. Transit options would be similar to those provided in the Alternative 3 (agency-preferred), with the addition of connections to regional transit centers outside of GGNRA. Extensive pedestrian and bicycle facility enhancements would be implemented, including closure and rerouting of existing trails, construction of new trails, and road widening to allow for bicycle lane construction on nearly all major roads.

Alternative 3 (agency-preferred) would provide enhanced multi-modal access. Roadway infrastructure would be rehabilitated or reconstructed with non-character altering roadway widening, and parking facilities would be improved. Additional transit options would be provided to and within the Marin Headlands and Fort Baker (MH/FB) to improve access. Pedestrian and bicycle facilities would be improved through closure and rerouting of existing trails and construction of new trails. Key project elements include:

• Roadways and Vehicular Circulation: At selected sites within the area of potential effect, roads and intersections will be modified to improve safety and operations. Modifications include widening the road widths from two to four feet to allow for the provision of Class 2 bicycle lanes or improved safety on Class 3 bike routes, and reconstructing intersections from a “Y” to a “T” configuration. In addition the park would implement a wayfinding program and intelligent transportation system (ITS) technologies to improve visitor information and reduce traffic congestion at key locations.

• Parking Management and Fees: In many MH/FB locations parking areas would be reconfigured, delineated, and formalized, in order to improve parking operations, reduce congestion, better match parking supply with demand, and reduce natural resource impacts. A parking fee program would be implemented to provide enhanced transit service operations.

• Bicycle and Pedestrian Improvements: Class 1 bicycle path and Class 2 bicycle lanes would be added in several locations, and extensive improvements to pedestrian trails would be implemented. A new bicycle/pedestrian trail would be constructed to provide a separate facility connecting Fort Baker to the bike lanes at Barry-Baker tunnel and the Marin Headlands. Rodeo Valley Trail would be widened with a hardened surface between Capehart Housing and Bunker Road at Rodeo Lagoon to provide a Class 1 bicycle path and hiking trail. The Coastal Trail would be rerouted from its current interior Rodeo Valley alignment to a more coastal alignment with spectacular views.

• Transit Services: Existing transit services in the MH/FB area would be expanded to improve access to and within these areas. The goal of improved transit service would be to provide transit access seven days a week by expanding MUNI and Golden Gate Transit service on existing routes, and by implementing additional park shuttle service.

• Car-Free Days and Special Events: A car-free days program would be implemented on selected days on a trial basis—upon review of the program, the NPS may adjust the number of car-free days or the implementation times and operations. This program would allow visitors to experience the area with minimal vehicular traffic and would encourage visitors to use alternative modes of transportation to access and travel within GGNRA.

• Natural Resource Protection: Improvements designed to protect natural resources include: restoring the wetland community at the unpaved parking lot at Rodeo Beach; repair and restore gullies that have formed due to past poor drainage along Conzelman roadway; and remove fill and restore wetlands along Rodeo Lagoon/Lake along selected portions of Smith and Bunker Roads.

Changes Between Draft EIS and Final Eis: Several changes were made to the analysis following release of the Draft EIS. Modifications included in the FEIS consist mostly of simple text revisions and technical edits. There are also both extensive text revisions to more clearly explain proposed actions or environmental impacts analysis, and minor changes to actions proposed in the agency-preferred alternative. The text edit changes were mostly a result of public comment on the Draft EIS. Chapter 6 of the FEIS summarizes the public comments and responds to the comments both within the chapter and in other chapters where appropriate. Some text was added that provided additional analysis. This additional analysis was mostly focused on two proposals within the analysis: the wetland restoration at the unpaved parking lot, and the Mission blue butterfly habitat compensation planned at Hawk Hill.

Project proposal changes included in Alternative 3 are as follows:

• Rodeo Valley Connector Trail: Cyclists would be allowed on the trail between Conzelman Road north to Bunker Road. The trail starts east of Battery Rathbone-McIndoe on Conzelman Road, connecting to Bunker Road east of the riding stables; there would be multi-use by permit pedestrians, equestrians, and bicycles.

• Slacker Hill Trail: The existing trail from the top of Slacker Hill to the launch site would be downgraded from a road to a trail, providing access to the launch site for hikers and equestrians only. Access to the east side of the launch site would be maintained for its views of the bay and city.

• Hawk Hill Parking on Conzelman Road: In preparing the FEIS, the planning team observed parking utilization at Hawk Hill in the fall of 2007. These observations showed that demand for the parking spaces exceeds 25 spaces for week-end peak and shoulder seasons. Therefore, Alternative 3 now includes a revised parking configuration at Hawk Hill, which is a modified version of the parking configuration provided in Alternative 4 (the same proposal is common to both alternatives).

• Smith Road Parking: The proposed parking area at Smith Road has been revised to mostly avoid the riparian area to the east. Under Alternative 3, Smith Road has been reduced in size and realigned to the south, moving it farther from Rodeo Creek and the riparian area along the creek.

• East Road and Bay Trail: Additional width will be provided where possible in the shoulder area for bicyclists, providing a balance between protecting the resources and improving bicyclists' safety and experience. The refined design includes 11-foot travel lanes in each direction and widened shoulders where practicable.

Scoping and Public Involvement: The Notice of Intent to prepare an EIS was published in the Federal Register on April 10, 2002. Early in the EIS scoping phase three public meetings were hosted in San Francisco, Marin City, and Oakland. The San Francisco meeting occurred on March 26, 2002 during a meeting of the park's Advisory Committee (approximately ten members of the public attended the meeting). The Marin City meeting occurred on April 10, 2002 at the Manzanita Community Center in Marin City (approximately 20 members of the public attended). The Oakland meeting occurred on April 11, 2002 at the Metropolitan Transportation Commission Auditorium in Oakland. Three members of the public attended, along with several agency staff members. In addition GGNRA held two Alternatives Refinement Workshops for the public. The primary goal of these meetings was to solicit public input on the four preliminary alternatives. The meetings were held on November 19, 2002 at Tamalpais High School in Mill Valley (approximately 11 community members attended) and on November 26, 2002 at GGNRA Headquarters in San Francisco (approximately 15 community members attended). GGNRA staff prepared and distributed announcements of the meetings to 2,000 individuals and organizations (and these were also distributed at Marin Headlands Visitor Center and posted widely on bulletin boards in Marin County). Summaries of the comments received at each workshop and written comments from the public were documented in a 2003 memorandum titled “Summary of November 2002 Alternatives Refinements Workshops”. Workshop comments were used to further refine the alternatives and identify the main issues to be addressed in finalizing the alternatives to be presented in the Draft EIS. The park also hosted a public forum March 14, 2003 to review initial findings of the Fort Baker Cultural Landscape Report and Marin Headlands/Fort Baker Historic Roads Characterization Study (two members of the public attended). The most recent public outreach efforts included presenting project alternatives at the last four of the park's quarterly public meetings beginning with the May 16, 2006 meeting at the Mill Valley Community Center. Regular posting of information updates occurs on the park's Web site (http://parkplanning.nps.gov/goga).

The park's Notice of Availability for the Draft EIS was published in the Federal Register on June 12, 2007 (the 60-day public review period was formally initiated June 8, 2007 when the EPA notice of filing appeared in the Federal Register); public comment was accepted through August 13, 2007. In an effort to solicit public awareness an extensive public notification effort was done for the release of the Draft EIS, including letters, post cards mailers, newspaper public notices, and posting on the park's Web site. A public meeting was held in Sausalito, CA on July 18, 2007 where the park hosted an open house and answered questions from the public. The public meeting was attended by approximate 80 people and was covered by San Francisco local television KTVU. Several media (radio, television, newspapers) reported on the project during the public review and comment period. Public correspondence was accepted electronically and via fax or letter; a total of 321 correspondences were received on the Draft EIS.

Approval Process: The National Park Service will prepare a Record of Decision no sooner than 30 days following EPA's notice of filing of the FEIS in the Federal Register. The document is available for public inspection as follows: at the Office of the Superintendent (Bldg. 201 Fort Mason, San Francisco, California), and at local public libraries (Marin County Free Library, Mill Valley, Point Reyes, and Sausalito). An electronic version may be accessed at http://parkplanning.np.gov/goga. Copies may also be obtained by contacting Mr. Steve Ortega, (415) 561-2841 or steve_ortega@nps.gov. As a delegated EIS, the official responsible for approval of the Marin Headlands and Fort Baker Transportation Infrastructure and Management Plan is the Regional Director, Pacific West Region; subsequently the official responsible for implementing the final plan would be the Superintendent, Golden Gate National Recreation Area.

Dated: December 11, 2008.
George J. Turnbull,
Acting Regional Director, Pacific West Region, National Park Service.

Editorial Note: This document was received in the Office of the Federal Register on Thursday, March 19, 2009.

[FR Doc. E9-6414 Filed 3-23-09; 8:45 am]

BILLING CODE 4312-FN-P